DEPARTMENT OF COMMERCE

International Trade Administration

A-580-844

Notice of Extension of Time Limit for Final Results of Antidumping Duty Administrative Review: Steel Concrete Reinforcing Bars from the Republic of Korea

AGENCY: Import Administration, International Trade Administration, Department of Commerce.

EFFECTIVE DATE: January 23, 2007.

FOR FURTHER INFORMATION CONTACT: Terre Keaton Stefanova or Katherine Johnson, AD/CVD Operations, Office 2, Import Administration, International Trade Administration, U.S. Department of Commerce, 14th Street and Constitution Avenue, NW, Washington, DC 20230; telephone: (202) 482-1280 or 202-482-4929, respectively.

SUPPLEMENTARY INFORMATION:

Background

On October 10, 2006, the Department of Commerce (the Department) published in the Federal Register the preliminary results of the 2004 - 2005 administrative review of the antidumping duty order on steel concrete reinforcing bars from the Republic of Korea. See Steel Concrete Reinforcing Bar From The Republic of Korea: Notice of Preliminary Results and Preliminary Rescission, in Part, of Antidumping Duty Administrative Review, 71 FR 59440 (October 10, 2006). The final results for this administrative review are currently due no later than February 7, 2007.

Extension of Time Limits for Final Results of Review

Section 751(a)(3)(A) of the Tariff Act of 1930, as amended (“the Act”), requires the Department to issue the final results of the review of an antidumping duty order within 120 days after the date on which the preliminary results are published in the Federal Register. However, if it is not practicable to complete the review within this time period, section 751(a)(3)(A) of the Act allows the Department to extend the time limit for the final results to 180 days from the date of publication of the preliminary results.

The Department finds that it is not practicable to complete the final results of this review within the original time limit. Due to the complexity of the issue raised by the petitioners in its case brief regarding the respondents' reporting of yield strength, a model-match characteristic, the Department requires additional time to properly analyze this issue. Therefore, we are fully extending the deadline for the final results of this review until no later than April 9, 2007, the next business day after 180 days from publication of the preliminary results, in accordance with section 751(a)(3)(A) of the Act.

We are issuing and publishing this notice in accordance with sections 751(a)(1), 751(a)(3)(A), and 777(i)(1) of the Act.

Dated: January 17, 2007.
Stephen J. Claeys,
Deputy Assistant Secretary for Import Administration.

[FR Doc. E7-930 Filed 1-22-07; 8:45 am]

BILLING CODE 3510-DS-S